ENVIRONMENTAL PROTECTION AGENCY

[EPA-HQ-OPP-2018-0031; FRL-9984-15-OEI]

Information Collection Request Submitted to OMB for Review and Approval; Comment Request; Agricultural Worker Protection Standard Training, Notification, and Recordkeeping (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): “Agricultural Worker Protection Standard Training, Notification, and Recordkeeping” (EPA ICR Number 2491.04 and OMB Control Number 2070-0190). This is a request to renew the approval of an existing ICR, which is currently approved. EPA did not receive any comments in response to the previously provided public review opportunity issued in the Federal Register on May 30, 2018. With this submission, EPA is providing an additional 30 days for public review.

DATES: Comments must be received on or before March 21, 2019.

ADDRESSES: Submit your comments, identified by docket identification (ID) number EPA-HQ-OPP-2018-0031, to: (1) EPA online using http://www.regulations.gov (our preferred method) or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Ryne Yarger, Field and External Affairs Division (7506P), Office of Pesticide Programs, Environmental Protection Agency, 1200 Pennsylvania Ave. NW, Washington, DC 20460-0001; telephone number: (703) 605-1193; email address: yarger.ryne@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: Under OMB regulations, the Agency may continue to conduct or sponsor the collection of information while this submission is pending at OMB. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR estimates the recordkeeping and third-party response burden of paperwork activities that covers the information collection requirements contained in the Worker Protection Standard (WPS) regulations at 40 CFR part 170. These requirements were updated in a 2015 Final Rule (80 FR 67495, November 2, 2015) that amended 40 CFR part 170.

Prior to the regulatory update, the WPS regulations already had provisions for training and notification of pesticide-related information for workers who enter pesticide-treated areas after pesticide application to perform crop-related tasks, as well as for handlers who mix, load, and apply pesticides. Agricultural employers and commercial pesticide handling establishments are responsible for providing required training, notifications and information to their employees to ensure worker and handler safety. The changes to the regulation in 2015 improved protections and included revisions to many of the provisions as well as the addition of new requirements. The WPS regulation now includes expanded and more frequent training for workers and handlers, improved posting of pesticide-treated areas, additional information for workers before they enter a pesticide-treated area while a restricted entry interval is in effect, access to more general and application-specific information about pesticides used on the establishment, and recordkeeping of training to improve enforceability and compliance.

Respondents/Affected Entities: Agricultural employers on agricultural establishments, including employers in farms as well as in nursery, forestry, and greenhouse establishments.

Respondent's obligation to respond: Mandatory (40 CFR 170).

Estimated total number of potential respondents: Approximately 985,000 agricultural establishments/employers and approximately 1,995,000 agricultural workers/handlers.

Frequency of response: Annually or on occasion, depending on the activity.

Total estimated annual burden: 10,448,160 hours. Burden is defined at 5 CFR 1320.3(b).

Total estimated annual costs: $433,264,055, includes no annualized capital investment or maintenance and operational costs.

Changes in the estimates: There is no change in the number of hours in the total estimated respondent burden compared with that identified in the ICR currently approved by OMB. There is an increase of 3,220 respondents, which is the result of a correction to the Agency's previously reported bottom-line annual estimates. Although the full burden analysis for the currently approved ICR properly accounted for burden imposed on these respondents, these respondents were inadvertently omitted from the total number of respondents reported to OMB. This change is an adjustment.

Courtney Kerwin,
Director, Collection Strategies Division.

[FR Doc. 2019-02583 Filed 2-15-19; 8:45 am]

BILLING CODE 6560-50-P